DEPARTMENT OF AGRICULTURE

Agricultural Marketing Service

7 CFR Part 1170

RIN 0581-AC66

[Docket No. AMS-07-0047; DA-06-07]

Dairy Product Mandatory Reporting

AGENCY: Agricultural Marketing Service, USDA.

ACTION: Interim final rule; reopening of comment period.

SUMMARY: The Agricultural Marketing Service (AMS) is reopening the comment period for 30 days for the interim final rule for the Dairy Product Mandatory Reporting program that was published in the Federal Register on July 3, 2007. This reopening of the comment period will provide interested parties with an additional opportunity to submit comments on all aspects of the program, including but not limited to the product specifications and whether there should be a minimum transaction volume for reported transactions. AMS will review and consider the submitted comments as it promulgates a final rule.

DATES: The comment period for the interim final rule published at 72 FR 36341, July 3, 2007, is reopened. Comments must be submitted on or before December 3, 2007.

ADDRESSES: Comments (four copies) should be submitted to John R. Mengel, Chief Economist, USDA/AMS/Dairy Programs, Office of the Chief Economist, STOP 0229-Room 2753, 1400 Independence Ave., SW., Washington, DC 20250-0229 or faxed to (202) 690-0552. Comments may also be submitted at the Federal eRulemaking portal: http://www.regulations.gov. All comments should reference the docket number and the date and page number of this issue of the Federal Register. Comments can be viewed in the Office of the Chief Economist during regular business hours, or at: http://www.regulations.gov.

FOR FURTHER INFORMATION CONTACT: John R. Mengel, Chief Economist, USDA/AMS/Dairy Programs, Office of the Chief Economist, STOP 0229-Room 2753, 1400 Independence Ave., SW., Washington, DC 20250-0229, (202) 720-7091.

SUPPLEMENTARY INFORMATION: This program is a statutory requirement pursuant to the Agricultural Marketing Act of 1946 [7 U.S.C. 1621 et seq.], hereinafter referred to as the “Act”.

The Act provides for and accordingly, the interim final rule published in the Federal Register on July 3, 2007 (72 FR 36341), established a Dairy Product Mandatory Reporting program that: (1) Requires persons engaged in manufacturing dairy products to provide to the Department of Agriculture (Department) certain information including the price, quantity, and moisture content, where applicable, of dairy products sold by the manufacturer; and (2) Requires manufacturers and other persons storing dairy products to report to the Department information on the quantity of dairy products stored.

This reopening of the comment period will provide interested parties with an additional opportunity to submit comments on all aspects of the program, including but not limited to the product specifications and whether there should be a minimum transaction volume for reported transactions. Specifically, AMS also solicits comments on whether Kosher dairy products and products produced from milk from cows not treated with recombinant bovine somatotropin (rbST) should be included in the Dairy Product Prices report, whether these products command a premium in the marketplace, and whether there are increased production costs associated with manufacturing these products. During the initial comment period, some commenters may have limited their comments to the issue of forward contracting and to the verification aspect of the program.

AMS seeks comments on all aspects of the program, including those specific issues outlined above, and will consider all comments received in promulgating a final rule.

Authority: 7 U.S.C. 1637-1637b, as amended by Pub. L. 106-532, 114 Stat. 2541 and Pub. L. 107-171, 116 Stat. 207.

Dated: October 26, 2007.
Kenneth C. Clayton,
Acting Administrator, Agricultural Marketing Service.

[FR Doc. E7-21559 Filed 11-1-07; 8:45 am]

BILLING CODE 3410-02-P